DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Knight Hawk Coal, LLC.

DATES: All comments on the petition must be received by MSHA's Office of Standards, Regulations, and Variances on or before October 16, 2025.

ADDRESSES: You may submit comments identified by Docket No. MSHA-2025-0092 by any of the following methods:

1. Federal eRulemaking Portal: https://www.regulations.gov. Follow the instructions for submitting comments for MSHA-2025-0092.

2. Fax: 202-693-9441.

3. Email: petitioncomments@dol.gov.

4. Regular Mail or Hand Delivery: MSHA, Office of Standards, Regulations, and Variances, Room C3522, 200 Constitution Ave NW, Washington, DC 20210.

Attention: Jessica D. Senk, Acting Director, Office of Standards, Regulations, and Variances. Persons delivering documents are required to check in at the receptionist's desk. Individuals may inspect copies of the petition and comments during normal business hours at the address listed above. Before visiting MSHA in person, call 202-693-9440 to make an appointment.

FOR FURTHER INFORMATION CONTACT: Jessica D. Senk, Office of Standards, Regulations, and Variances at 202-693-9440 (voice), Petitionsformodification@dol.gov (email), or 202-693-9441 (fax). These are not toll-free numbers.

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-049-C.

Petitioner: Knight Hawk Coal, LLC, 500 Cutler Trico Road, Percy, IL 62272.

Mine: Prairie Eagle Underground Mine, MSHA ID No. 11-03147, located in Perry County, IL.

Regulation Affected: 30 CFR 75.1909(b)(6), Nonpermissible diesel-powered equipment; design and performance requirements.

Modification Request: The petitioner is requesting a modification to 30 CFR 75.1909(b)(6) to allow an alternative method of compliance to permit the use of a Getman RDG-1504S Road Builder as it was originally designed, without front brakes.

The petitioner states that:

(a) Prairie Eagle Underground Mine seeks modification of 30 CFR 75.1909(b)(6) as it pertains to service brakes that act on each wheel of the vehicle and that are designed such that failure of any single component, except the brake actuation pedal or other similar actuation device, must not result in a complete loss of service braking capability.

(b) The alternative method will at all times guarantee no less than the same measure of protection afforded the miners under the mandatory standard.

The petitioner proposes the following alternative method:

(a) The existing standard for self-propelled nonpermissible diesel-powered equipment does not address equipment with more than four wheels, specifically the Getman RDG-1504S Road Builder with six wheels. This machine has dual brake systems on the four rear wheels, and it is designed to prevent a loss of braking due to a single component failure.

(b) The speed of the machine shall be limited to 10 miles per hour by permanently blocking out any gear that would provide higher speed, or transmission and differential ratios that would limit the maximum speed to 10 miles per hour.

(c) The grader operators shall be trained to recognize appropriate speeds for different road conditions and slopes.

(d) The grader operators shall be trained to lower the grader blade to provide additional stopping capability.

(e) The petitioner proposes to transfer the RDG-l 504S Road Builder, serial number 6390, from the Viper Mine 11-02664 that is closing, to Knight Hawk Coal (“Prairie Eagle Underground Mine”).

(f) The road grader requested within this petition for the Prairie Eagle Underground Mine has been safely operated at Viper Mine for many years. Also, the same style road grader is utilized and approved by MSHA at Peabody Gateway Mine under docket No. M-2015-012-C. Underground mining conditions can be similar to that of the Gateway mine as the two operations are located in close proximity to each other and mine in the same Herrin #6 coal seam.

(g) The miners at Prairie Eagle Underground Mine are not represented by a labor organization and the petition has been posted at the mine on June 27, 2025.

The petitioner asserts that the alternative method will guarantee no less than the same measure of protection afforded the miners under the mandatory standard.

Jessica D. Senk,
Acting Director, Office of Standards, Regulations, and Variances.

[FR Doc. 2025-17799 Filed 9-15-25; 8:45 am]

BILLING CODE 4520-43-P